DEPARTMENT OF DEFENSE

Department of the Navy

Notice of Intent To Grant Partially Exclusive Patent License; Max-Viz, Inc.

AGENCY: Department of the Navy, DoD.

ACTION: Notice.

SUMMARY: The Department of the Navy herby gives notice of its intent to grant to Max-Viz, Inc., a revocable, nonassignable, partially exclusive license in the United States to practice the Government-Owned inventions described in U.S. Patent No. 8023760: System and Method for Enhancing Low-Visibility Imagery//U.S. Patent No. 8149245: Adaptive Linear Contrast Method for Enhancement of Low-Visibility Imagery.

DATES: Anyone wishing to object to the grant of this license must file written objections along with supporting evidence, if any, not later than May 1, 2013

ADDRESSES: Written objections are to be filed with the Office of Research and Technology Applications, Space and Naval Warfare Systems Center Pacific, Code 72120, 53560 Hull St, Bldg A33 Room 2531, San Diego, CA 92152-5001.

FOR FURTHER INFORMATION CONTACT: Brian Suh, Office of Research and Technology Applications, Space and Naval Warfare Systems Center Pacific, Code 72120, 53560 Hull St, Bldg A33 Room 2531, San Diego, CA 92152-5001, telephone 619-553-5118, email: brian.suh@navy.mil.

(Authority: 35 U.S.C. 207, 37 CFR Part 404.)

Dated: April 8, 2013.
C.K. Chiappetta,
Lieutenant Commander, Office of the Judge Advocate General, U.S. Navy, Federal Register Liaison Officer.

[FR Doc. 2013-08910 Filed 4-15-13; 8:45 am]

BILLING CODE 3810-FF-P